INTERNATIONAL TRADE COMMISSION

[Investigation No. 337-TA-1281]

Certain Video Security Equipment and Systems, Related Software, Components Thereof, and Products Containing Same; Notice of the Commission's Final Determination Finding No Violation of Section 337; Termination of the Investigation

AGENCY: International Trade Commission.

ACTION: Notice.

SUMMARY: Notice is hereby given that the U.S. International Trade Commission (“Commission”) has found no violation of section 337 of the Tariff Act of 1930, as amended, in the above-captioned investigation. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On September 14, 2021, the Commission instituted this investigation under section 337 of the Tariff Act of 1930, as amended, 19 U.S.C. 1337 (“section 337”), based on a complaint filed by Motorola Solutions, Inc. of Chicago, Illinois (“Motorola Solutions”); Avigilon Corporation of British Columbia, Canada; Avigilon Fortress Corporation of British Columbia, Canada; Avigilon Patent Holding 1 Corporation of British Columbia, Canada (“Avigilon Patent Holding”); and Avigilon Technologies Corporation of British Columbia, Canada (collectively, “Complainants”). See 86 FR 51182-83 (Sept. 14, 2021). The complaint alleges a violation of section 337 based upon the importation into the United States, sale for importation, or sale within the United States after importation of certain video security equipment and systems, related software, components thereof, and products containing same by reason of infringement of certain claims of U.S. Patent Nos. 7,868,912 (“the '912 patent”); 10,726,312 (“the '312 patent”); and 8,508,607 (“the '607 patent”) (collectively, “the Asserted Patents”). Id. The complaint further alleges that a domestic industry exists. Id. The notice of investigation (“NOI”) names Verkada Inc. of San Mateo, California (“Verkada”) as the only respondent. Id.

The complaint and NOI were previously amended to reflect the transfer of all right, title, and interest in: (1) the '312 patent from Avigilon Corporation to Motorola Solutions; (2) the '912 patent from Avigilon Fortress Corporation to Motorola Solutions; and (3) the '607 patent from Avigilon Patent Holding to Motorola Solutions. Order No. 7 (Dec. 28, 2021), unreviewed by 87 FR 4658-59 (Jan. 28, 2022). The complaint and NOI were further amended to add a new licensee, Avigilon USA Corporation of Dallas, Texas, as an additional complainant. Id.

The Commission previously terminated the investigation as to claims 4 and 10-12 of the '312 patent based on Complainants' partial withdrawal of the complaint. Order No. 58 (June 14, 2022), unreviewed by Comm'n Notice (June 30, 2022). The Commission also previously terminated the investigation as to claims 6, 15, 25, and 26 of the '607 patent based on Complainants' partial withdrawal of the complaint. Order No. 59 (July 13, 2022), unreviewed by Comm'n Notice (Aug. 4, 2022).

On October 24, 2022, the presiding administrative law judge (“ALJ”) issued a final initial determination (“FID”) finding that a violation of section 337 has occurred in the importation into the United States, the sale for importation, or the sale within the United States after importation, of certain video security equipment and systems, related software, components thereof, and products containing same that infringe claims 6-11 of the '912 patent. The FID further finds no violation of section 337 with respect to the remaining asserted claims of the '912 patent, or as to the '312 patent or the '607 patent. The FID includes the ALJ's recommended determination on remedy, the public interest, and bonding should the Commission find a violation of section 337.

On November 23, 2022, Complainants and Verkada each filed a submission on the public interest pursuant to Commission Rule 210.50(a)(4) (19 CFR 210.50(a)(4)). No submissions were received in response to the Commission notice seeking public interest submissions. 87 FR 65827-28 (Nov. 1, 2022).

On January 12, 2023, the Commission determined to review the FID in part. 88 FR 3435-37 (Jan. 19, 2023). Specifically, the Commission determined to review the FID's findings: (1) regarding “subject matter jurisdiction”; (2) that certain accused products infringe claims 6-11 of the '912 patent and finding a violation of section 337 as to those claims; and (3) that asserted claims 6-11 of the '912 patent are not invalid as anticipated or obvious. Id. The Commission asked the parties to address three questions related to the issues under review with respect to the '912 patent. Id.

On January 27, 2023, Complainants and Verkada each filed an initial written response to the Commission's request for briefing. On February 3, 2023, Complainants and Verkada each filed a reply submission.

Having reviewed the record of the investigation, including the FID and the parties' submissions, the Commission has determined to find no violation of section 337 with respect to the '912 patent. Specifically, the Commission has determined to: (1) vacate the FID's finding that the Commission has “subject matter jurisdiction” because “subject matter jurisdiction” does not apply to administrative agencies; (2) affirm and supplement the FID's finding that respondent Verkada failed to demonstrate the Video Surveillance and Monitoring (“VSAM”) testbed system as allegedly disclosed in multiple documents existed as prior art; (3) reverse the FID's finding that asserted claims 6-11 of the '912 patent are not anticipated by “Event Detection and Analysis from Video Streams” by Medioni et al., published in the IEEE Transactions on Pattern Analysis and Machine Intelligence, Vol. 23, No. 8 in August 2001 (“Medioni”); (4) affirm and supplement the FID's finding that asserted claims 6-11 of the '912 patent are not rendered obvious by Medioni in combination with the asserted VSAM testbed; and (5) take no position on the issue of infringement of claims 6-11 of the '912 patent.

The investigation is terminated with a finding of no violation of section 337. The Commission's reasoning in support of its determinations is set forth more fully in its opinion.

The Commission vote for this determination took place on March 31, 2023.

The authority for the Commission's determination is contained in section 337 of the Tariff Act of 1930, as amended (19 U.S.C. 1337), and in Part 210 of the Commission's Rules of Practice and Procedure (19 CFR part 210).

By order of the Commission.
Issued: March 31, 2023.
Lisa Barton,
Secretary to the Commission.

[FR Doc. 2023-07165 Filed 4-5-23; 8:45 am]

BILLING CODE 7020-02-P